DEPARTMENT OF AGRICULTURE

Notice of Request for Approval of an Information Collection

AGENCY: Office of Communications, Department of Agriculture.

ACTION: Notice and request for comments.

SUMMARY: This notice announces Office of Communications' to request a revision and extension of a currently approved information collection, Event Appearance for the Secretary or Members of his Staff, OMB Control number 0506-0005.

DATES: Comments on this notice must be received by June 8, 2020 to be assured of consideration.

ADDRESSES: Office of Communications invites interested persons to submit comments on this notice. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to Docket Clerk, U.S. Department of Agriculture, Office of Communications, Docket Clerk, 1400 Independence Ave. SW, Mailstop 402A, Washington, DC 20250-3700.

• Hand- or courier-delivered submittals: Deliver to 1400 Independence Ave. Room 402A, Washington, DC 20250-3700.

Instructions: All items submitted by mail or electronic mail must include the Agency name, Office of Communications. Comments received in response to this docket will be made available for public inspection and posted without change, including any personal information, to http://www.regulations.gov.

Docket: For access to background documents or comments received, go to the Office of Communications Docket Room at 1400 Independence Ave. SW, Room 402A, Washington, DC 20250-3700 between 8:00 a.m. and 4:30 p.m., Monday through Friday.

FOR FURTHER INFORMATION CONTACT: Contact Brian Mabry, Office of Communications, U.S. Department of Agriculture, 1400 Independence Ave. SW, 402A, Washington, DC 20250, 202-720-5831.

SUPPLEMENTARY INFORMATION: In accordance with the Paperwork Reduction Act of 1995 (44 U.S.C. Chapter 35), this notice announces the intention of Office of Communications to request revision and extension an approved information collection.

Title: Event Appearance Requests for the Secretary or members of his staff.

OMB Number: 0506-0005.

Expiration Date of Approval: July 31, 2020.

Type of Request: Revision and extension of a currently approved information collection.

Abstract: A web form collects information on events that the public would like the Secretary to participate in, or those in which the incoming Secretary may want to use to reach back out to interested parties to invite them to events. Information that will be collected is a follows: Organization, Address, Phone/Cell Number, First and last name of point of contact, Email Address, Type of event, Date of event, Event location, Secretary's role, Number of attendees, Press open or closed.

Estimate of Burden: Public reporting burden for this collection of information is estimated to average 15 min per response. There may be one or more responses per respondent.

Respondents: Individual, Businesses, Not-for-profit; State, Local or Tribal governments.

Estimated Number of Respondents: 5,000.

Estimated Number of Responses per Respondent: 2.

Estimated Total Annual Burden on Respondents: 2,500.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Brian Mabry, Office of Communications U.S. Department of Agriculture. All comments received will be available for public inspection during regular business hours at the same address.

All responses to this notice will be summarized and included in the request for OMB approval. All comments will become a matter of public record.

Meghan Rodgers,
Director (Acting), Office of Communications.

[FR Doc. 2020-07215 Filed 4-6-20; 8:45 am]

BILLING CODE 3410-13-P